DEPARTMENT OF HEALTH AND HUMAN SERVICES

Substance Abuse and Mental Health Services Administration

Center for Mental Health Services; Notice of Meeting

Pursuant to Public Law 92-463, notice is hereby given that the Substance Abuse and Mental Health Services Administration (SAMHSA), Center for Mental Health Services (CMHS) National Advisory Council (NAC) will meet on August 10, 2017, from 9:00 a.m. to 5:15 p.m. and on August 11, 2017, from 8:30 a.m. to 12:00 p.m. EDT. The NAC will convene in both open and closed sessions on August 10, 2017, and will convene in open session on August 11, 2017.

The closed portion of the meeting will include discussion and evaluation of grant applications reviewed by SAMHSA's Initial Review Groups, and involve an examination of confidential financial and business information as well as personal information concerning the applicants. Therefore, the meeting will be closed to the public from 9:00 a.m. to 10:30 a.m. as determined by the Acting Deputy Assistant Secretary for Mental Health and Substance Use, SAMHSA in accordance with Title 5 U.S.C. 552b(c)(4) and (6) and Title 5 U.S.C. App. 2, 10(d). The remainder of this meeting will be open to the public from 10:45 a.m. to 5:15 p.m. and will continue on Friday, August 11, 2017, from 8:30 a.m. to 12:00 p.m. EDT to include discussion of the Center's policy issues, presentations on SAMHSA's Learning Agenda, Treatment Innovations, Cognitive Behavioral Therapy for Serious Mental Illness, Co-occurring Mental Illness and Opioid Addiction, Continuum of Care for Adults with Serious Mental Illness, Prodromal Care Approaches in Children's Mental Health, Faith-based Approaches, and a conversation with the Acting Deputy Assistant Secretary for Mental Health and Substance Use.

Attendance by the public will be limited to available space. Interested persons may present data, information, or views, orally or in writing, on issues pending before the council. Written submissions should be forwarded to the contact person (below) on or before July 27, 2017. Oral presentations from the public will be scheduled at the conclusion of the meeting on Friday, August 11, 2017. Five minutes will be allotted for each presentation. Meeting information and a roster of Council members may be obtained either by accessing the SAMHSA Council Web site at http://www.samhsa.gov/about-us/advisory-councils/cmhs-national-advisory-council or by contacting Ms. Pamela Foote (see contact information below).

The meeting can be accessed via telephone. To obtain the conference call-in number and access code, submit written or brief oral comments, or request special accommodations for persons with disabilities, please register at the SAMHSA's Advisory Council Web site at http://nac.samhsa.gov/Registration/meetingsRegistration.aspx, or contact Pamela Foote (see contact information below).

Committee Name: Substance Abuse and Mental Health Services Administration, Center for Mental Health Services National Advisory Council.

Dates/Time/Type:

Thursday, August 10, 2017, 9:00 a.m. to 10:30 a.m. EDT: CLOSED

Thursday, August 10, 2017, 10:45 a.m. to 5:15 p.m. EDT: OPEN

Friday, August 11, 2017, 8:30 a.m. to 12:00 p.m. EDT: OPEN

Place:

SAMHSA, 5600 Fishers Lane, 5th Floor, Conference Room A04, Rockville, Maryland 20857, August 10, 2017

SAMHSA, 5600 Fishers Lane, 5th Floor, Conference Room 5E29, Rockville, Maryland 20857, August 11, 2017

Contact: Pamela Foote, Designated Federal Official, SAMHSA CMHS National Advisory Council, 5600 Fishers Lane, Room 14E53C, Rockville, Maryland 20857, Telephone: (240) 276-1279, Fax: (301) 480-8491, Email: pamela.foote@samhsa.hhs.gov.

Summer King,
Statistician, Substance Abuse and Mental Health, Services Administration.

[FR Doc. 2017-15381 Filed 7-20-17; 8:45 am]

BILLING CODE 4162-20-P